DEPARTMENT OF AGRICULTURE

Food and Nutrition Service

Agency Information Collection Activities: Proposed Collection; Comment Request—Impact of Implementation of the Affordable Care Act on SNAP Operations and Participation

AGENCY: Food and Nutrition Service (FNS), United States Department of Agriculture (USDA).

ACTION: Notice.

SUMMARY: In accordance with the Paperwork Reduction Act of 1995, this notice invites the general public and other public agencies to comment on this proposed information collection. This is a new collection for research on the impact of implementation of the Patient Protection and Affordable Care Act (ACA) on the operations of, and participation in, the Supplemental Nutrition Assistance Program (SNAP).

DATES: Written comments must be received on or before May 13, 2013.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility and clarity of the information to be collected; and (d) ways to minimize the burden of the collection of information on those who are to respond, including use of appropriate automated, electronic, mechanical or other technological collection techniques or other forms of information technology.

Comments may be sent to: Steven Carlson, Office of Research and Analysis, Food and Nutrition Service, U.S. Department of Agriculture, 3101 Park Center Drive, Room 1014, Alexandria, VA 22302. Comments may also be submitted via fax to the attention of Steven Carlson at 703-305-2576 or via email to Steve.Carlson@fns.usda.gov. Comments will also be accepted through the Federal eRulemaking Portal. Go to http://www.regulations.gov, and follow the online instructions for submitting comments electronically.

All written comments will be open for public inspection at the office of the Food and Nutrition Service during regular business hours (8:30 a.m. to 5 p.m. Monday through Friday) at 3101 Park Center Drive, Room 1014, Alexandria, Virginia 22302.

All responses to this notice will be summarized and included in the request for Office of Management and Budget approval. All comments will be a matter of public record.

FOR FURTHER INFORMATION CONTACT: Requests for additional information or copies of this information collection should be directed to Steven Carlson at 703-305-2017. Information requests submitted through email should refer to the title of this proposed collection and/or the OMB approval number in the subject line.

SUPPLEMENTARY INFORMATION: Title: Impact of Implementation of the Affordable Care Act on SNAP Operations and Participation.

OMB Number: 0584—NEW.

Expiration Date: Not Yet Determined.

Type of Request: New Collection.

Abstract: The Supplemental Nutrition Assistance Program (SNAP) is the USDA's largest nutrition program, helping over 46 million low-income Americans (in fiscal year 2012) to purchase food. The program, administered by the Food and Nutrition Service (FNS), is designed to respond to broad economic and individual circumstances as they change over time. The program's operating environment will be influenced importantly by the implementation of the ACA.

This study will assess the impact of ACA implementation on participation in the SNAP among nonelderly nondisabled adults, ages 19-64. This issue has major significance not only in its implications for Federal and State budgets, but also more generally for the economic well-being of America's adult workers and their families. ACA implementation could potentially have a profound impact on SNAP participation among nonelderly nondisabled adults 19 to 64 in many ways, including:

• Increase the number of nonelderly nondisabled adults that will newly apply for health coverage, including many who qualify for SNAP but do not participate. This could lead to a substantial increase in SNAP participation, even in States that do not implement the expanded Medicaid limits for income eligibility and retain their pre-ACA Medicaid eligibility standards.

• ACA's investment of Federal resources for improving eligibility information technology (IT) can be used to improve systems that Medicaid shares with SNAP.

• When people apply for SNAP and Medicaid benefits, caseworkers may draw from ACA's data-gathering mechanisms to reduce the work required to determine SNAP eligibility.

• Enrollment and retention under ACA departs from traditional methods used by public benefit programs. Among the major potential changes to be implemented in Medicaid are: the opportunity to enroll and renew remotely; verification through data matches; and renewing one's eligibility based on data matches, without required client action. These new approaches may inspire similar innovations with SNAP eligibility determination.

• In a State where Medicaid and SNAP use different eligibility systems, if Medicaid's system modernizes and SNAP's does not, SNAP will need to assume a larger share of spending to maintain and operate its eligibility system. Also, major changes in Medicaid eligibility could lead some States to move Medicaid outside the core responsibilities of social service agencies. If this happens, applicants may need to provide the same information multiple times to qualify for multiple programs, rather than once.

• Some States may use SNAP eligibility information to qualify uninsured adults and children for Medicaid. In States where Medicaid and SNAP use different eligibility systems, such an initiative could allow the IT work needed to connect the two systems to qualify for the Medicaid 90/10 match.

• States will need to rethink the integration of policies and models across benefits programs in light of the changes to Medicaid eligibility under ACA.

The potential for growth in SNAP participation varies substantially among States, in both absolute numbers and as percentages of current State-by-State SNAP caseloads. FNS has undertaken this study to better anticipate and measure these effects, through a combination of qualitative and quantitative research consisting of rigorous case studies in selected States and analyses of emerging national survey datasets. In each of the six study sites, the study seeks to describe and determine (1) the coordination of SNAP and Medicaid enrollment and renewal processes in the State and whether any changes came about with the ACA; (2) the process for directing Medicaid applicants to SNAP; and (3) the impact of ACA implementation on the number of SNAP applications.

The study includes a quantitative research component involving the use of administrative data in six States and a qualitative research component involving on-site staff interviews in six study sites. We will also undertake a detailed “process mapping” of the extent to which applicants for Medicaid enrollment or renewal are channeled toward SNAP enrollment or renewal (or vice versa). Our proposed quantitative approach relies on the analysis of case-level data extracted from State administrative datasets, in addition to State-provided counts and tabulations from their administrative data. At each of the six sites, hour-long semi-structured interviews will be conducted with State and local SNAP and Medicaid administrators, SNAP and Medicaid caseworkers and directors of community-based organizations involved with integrating the SNAP and Medicaid programs.

Affected State, Local and Not-for-Profit Institutions

There are 14 total types of respondents. Respondent groups identified include:

• Six State and local SNAP administrators and staff: State program director, assistant director for policy, assistant director for operations (including call center operations), local program director, case manager (initial enrollments) and case manager (renewals);

• Six State and local Medicaid administrators and staff: State program director, assistant director for policy, assistant director for operations, local program director, case manager (initial enrollments) and case manager (renewals); and

• Two community-level stakeholders: SNAP-focused Community Based Organization (CBO) representative and Medicaid-focused CBO representative.

Estimated Number of Respondents: The total estimated number of respondents is 84. This includes: (a) 36 State and local SNAP administrators and staff; (b) 36 State and local Medicaid administrators and staff; and (c) 12 community-level stakeholders.

Estimated Number of Responses per Respondent: Each respondent will be asked to participate in two in-person interviews—one interview in Year 2 of the project and a follow-up interview in Year 3 of the project.

Estimated Total Annual Responses: 84.

Estimated Time per Response: 60 minutes.

Estimated Total Annual Burden on Respondents: 10,080 minutes (168 hours). See the table below for estimated total annual burden for each type of respondent.

Type of respondent | Survey instrument | Estimated number of respondents | Total number of responses per respondent | Estimated total annual responses | Estimated avg. number of hours per response | Estimated total hours
SNAP administrators and staff | Interview | 36 | 2 | 72 | 1.00 | 72
Medicaid administrators and staff | Interview | 36 | 2 | 72 | 1.00 | 72
Community-level stakeholders | Interview | 12 | 2 | 24 | 1.00 | 24
Total Reporting Burden |  | 84 | 2 | 168 | 1.00 | 168

Dated: March 4, 2013.
Audrey Rowe,
Administrator, Food and Nutrition Service.

[FR Doc. 2013-05781 Filed 3-12-13; 8:45 am]

BILLING CODE 3410-30-P